DEPARTMENT OF ENERGY

Western Area Power Administration

DEPARTMENT OF THE INTERIOR

Fish and Wildlife Service

Notice of Intent To Prepare a Programmatic Environmental Impact Statement To Evaluate Wind Energy Development in Iowa, Minnesota, Montana, Nebraska, North Dakota, and South Dakota; Including the U.S. Fish and Wildlife Service's Landscape-Level Easement Program in North Dakota, South Dakota, and Eastern Montana; and To Conduct Public Scoping Meetings

AGENCIES: Western Area Power Administration, U.S. Department of Energy, and U.S. Fish and Wildlife Service, U.S. Department of the Interior.

ACTION: Notice of Intent to Prepare a Programmatic Environmental Impact Statement, and to Conduct Public Scoping Meetings.

SUMMARY: In accordance with the National Environmental Policy Act of 1969 (NEPA), as amended; and the Council on Environmental Quality (CEQ) regulations; the U.S. Department of Energy, Western Area Power Administration (Western), and the U.S. Department of the Interior, Fish and Wildlife Service (Service), will, as joint lead agencies, prepare a Programmatic Environmental Impact Statement (Programmatic EIS) to evaluate issues associated with wind energy development within Western's Upper Great Plains Customer Service Region (UGP Region), which encompasses all or parts of the States of Iowa, Minnesota, Montana, Nebraska, North Dakota, and South Dakota; and upon the Service's landscape-level grassland and wetland easements in North Dakota, South Dakota, and eastern Montana. The U.S. Department of Agriculture, Rural Utility Services (RUS) plans to participate as a cooperating agency. Public scoping meetings will be held during the Programmatic EIS scoping period.

DATES: The public scoping meetings will be held September 30, October 1 and 2, 2008. The public scoping period starts with the publication of this notice in the Federal Register and will continue until November 10, 2008. Western and the Service will consider all electronic and written comments on the scope of the Programmatic EIS received on the project Web site (http://plainswindeis.anl.gov), or postmarked by November 10, 2008.

ADDRESSES: Western and the Service will hold public scoping meetings to obtain comments on the Programmatic EIS at 6 p.m., at the following locations:

1. September 30, 2008, Holiday Inn City Centre, 100 West 8th St., Sioux Falls, SD.

2. October 1, 2008, Radisson Hotel, 605 East Broadway Avenue, Bismarck, ND.

3. October 2, 2008, Quality Inn Homestead Park, 2036 Overland Avenue, Billings, MT.

The agencies will also announce the exact locations and times of the public meetings through the local media, the project Web site (http://plainswindeis.anl.gov), and an interested party mailing list. You may submit comments electronically, using the online comment form available on the project Web site (http://plainswindeis.anl.gov), or by letter to WAPA/FWS Wind Energy Programmatic EIS Scoping, Argonne National Laboratory, 9700 S. Cass Avenue-EVS/900, Argonne, IL 60439.

FOR FURTHER INFORMATION CONTACT: For information on Western's proposed Comprehensive Management Program for Wind Energy Project Interconnections, and general information about interconnections with Western's transmission system, contact Nicholas Stas, Regional Environmental Manager, Upper Great Plains Customer Service Region, Western Area Power Administration, P.O. Box 35800, Billings, MT 59107-5800, telephone (406) 247-7404, facsimile (406) 247-7408, e-mail stas@wapa.gov. For information on the Programmatic EIS process, or to receive a copy of the Draft Programmatic EIS when it is issued, contact Mark Wieringa, NEPA Document Manager, Western Area Power Administration, P.O. Box 281213, Lakewood, CO 80228-8213, telephone (800) 336-7288, facsimile (720) 962-7263, e-mail wieringa@wapa.gov.

For information on the Service's participation in the Programmatic EIS, contact Michael Spratt, U.S. Fish and Wildlife Service, 134 Union Boulevard, Lakewood, CO 80228-1807, telephone (303) 236-4366, facsimile (303) 236-4792, e-mail Michael_Spratt@fws.gov.

For information on RUS's participation in the Programmatic EIS, contact Barbara R. Britton, Environmental Protection Specialist, Engineering and Environmental Staff, Water and Environmental Programs, Rural Development-Utilities Programs, U.S. Department of Agriculture, 1400 Independence Avenue, SW., Mail Stop 1571, Washington, DC 20250; telephone (202) 720-1414; facsimile (202) 720-0820; e-mail Barbara.Britton@wdc.usda.gov.

For general information on the DOE's NEPA review process, contact Carol M. Borgstrom, Director, Office of NEPA Policy and Compliance, GC-20, U.S. Department of Energy, 1000 Independence Avenue, SW., Washington, DC 20585-0119, telephone (202) 586-4600 or (800) 472-2756, facsimile (202) 586-7031.

SUPPLEMENTARY INFORMATION: Western's UGP Region proposes to develop and implement a comprehensive region-wide management program for wind-energy project interconnections in response to an increasing number of wind-energy project interconnection requests. The UGP Region includes all or parts of the States of Iowa, Minnesota, Montana, Nebraska, North Dakota, and South Dakota. The requests are primarily from independent wind project developers who wish to interconnect their projects to the UGP Region's transmission system, in order to move their generation to market. Currently, Western addresses each request for interconnection separately, in the order that they are received.

The objective of Western's proposed program would be to support the processing of these interconnection requests, including NEPA analyses, by having already addressed generic environmental interconnection concerns and issues in a Programmatic EIS. The Programmatic EIS would analyze, to the extent practicable, the impacts resulting from development of wind energy projects and the effectiveness of mitigation measures, standard construction practices, and best management practices in reducing potential impacts. Impacts and mitigation would be analyzed for each environmental resource, and all aspects of wind energy projects would be addressed, including turbine, transformer, collector line, access road, and substation installations, and operational and maintenance activities. The program would be structured to complement Western's Open Access Transmission Service Tariff (Tariff), which includes procedures for addressing wind-energy project interconnection requests.

Many of the impacts resulting from wind energy infrastructure development, including siting wind turbines, access roads, underground collector lines, overhead lines, and substations, are well known. Similarly, effective mitigation measures and best management practices have been developed to reduce the environmental impacts of constructing and operating wind-energy developments. The Programmatic EIS will collect and analyze this information as it applies to wind-energy development in the six states included in the UGP Region. Specifically, the EIS and program would:

1. Define areas with a high potential for wind-energy development near UGP Region's transmission system in anticipation of future wind-generation interconnection requests.

2. Define natural and human environment resources in areas with high wind-energy development potential, including Native American lands, to support analyses of the environmental impacts and development of wind-energy resources.

3. Develop and present mitigation measures for reducing wind-energy development impacts on the natural and human environment for use by interconnection applicants in addressing the environmental impacts of their projects.

4. Complete a programmatic Endangered Species Act (ESA) section 7 consultation for listed and proposed threatened and endangered species within the study area boundaries established for the Programmatic EIS.

5. Implement an adaptive management approach that requires mitigation implementation monitoring and reporting to ensure that the best mitigation measures are identified and employed to reduce environmental impacts. The monitoring reports would be used by Western and the Service to periodically update mitigation practices.

6. Define thresholds for significant direct, indirect, and cumulative environmental impacts from wind-energy developments and associated transmission system enhancements to support the impact analysis in the Programmatic EIS.

7. Define circumstances tied to laws, regulations, and policies that have potential to affect wind-energy resource development.

8. Define possible transmission system enhancements to support wind development and the general level of impacts expected from these transmission enhancements.

9. Provide a guide for interconnection applicants that includes information about natural resources within areas with a high potential for wind development, requirements for subsequent site-specific environmental reviews, transmission capacity needs and availability, and appropriate mitigation measures to minimize adverse environmental impacts related to wind projects and associated transmission system enhancements.

The Service maintains a grassland and wetland easement program to support and enhance waterfowl populations in the Prairie Pothole Region. The Service's Region 6 has developed a plan that will allow partial release of an easement for wind generation purposes, only with defined conditions and on a specified area, in exchange for additional easement acreage being conveyed to the Service. As the Service moves forward with this plan, understanding the individual and cumulative impacts to wildlife habitat (primarily grasslands easements) and wildlife is critical. It is important to understand which habitats should be avoided. A streamlined approach for compliance (NEPA, National Historic Properties Act [NHPA], and ESA) for subsequent site-specific wind development projects in the future would result from this Programmatic EIS.

In accordance with the NEPA (42 U.S.C. 4321), and the Council on Environmental Quality (CEQ) regulations (40 CFR parts 1500-1508), 1501.5(b), Western and the Service will be joint lead agencies in the preparation of the Programmatic EIS. Western and the Service will consult under section 7 of the ESA in support of the Programmatic EIS process. The Service intends to prepare a programmatic Biological Opinion as a result of this consultation.

Western and the Service invite any Federal, State, or local agency or tribal government with jurisdiction by law or special expertise in wind energy development and/or electricity transmission operation to be a cooperating agency. RUS has already indicated that it plans to participate as a cooperating agency. Other agencies or state or tribal governments may become cooperating agencies at a later date.

Meetings

Scoping meetings will include introductory presentations on the proposed action by Western and the Service; an overview of wind-energy technologies, interconnections, and power transmission; the Service's landscape-level easement and avian protection programs; and the public participation process. Oral comments from the public will commence immediately after the presentations. Equal consideration will be given to electronic, oral, and written comments. Western and the Service encourage electronic submissions if possible. All meeting locations will be handicapped-accessible. Anyone needing special accommodations should contact Western or the Service to make arrangements.

Public Involvement and Comments

Interested parties are invited to participate in the scoping process, both to refine preliminary alternatives and environmental issues to be analyzed in depth and to eliminate from detailed study those alternatives and environmental issues that are not feasible or pertinent. The scoping process is intended to involve all interested agencies (Federal, State, county, and local), public interest groups, businesses, and members of the public.

The outcome of this Programmatic EIS may affect or apply to tribal resources. Therefore, Western and the Service will meet their Federal requirements to consult with affected tribes throughout the development of the Programmatic EIS to jointly evaluate and address the potential effects, if any, of the proposed action. These consultations would be conducted in accordance with Executive Order 13175 “Consultation and Coordination with Indian Tribal Governments” (65 FR 67249), the President's memorandum of April 29, 1994, “Government-to-Government Relations with Native American Tribal Governments” (59 FR 22961), agency-specific guidance on tribal interactions, and applicable natural and cultural resource laws and regulations (e.g., NEPA, ESA, NHPA, and Migratory Bird Treaty Act).

Public scoping meetings will be held at the locations listed under ADDRESSES above. A presiding officer will establish only those procedures needed to ensure that everyone who wishes to speak has a chance to do so and that the agencies understand all issues and comments. Speakers will be asked to provide brief comments to allow adequate time to hear all comments. Depending upon the number of persons wishing to speak, the presiding officer may allow longer speaking times. Persons wishing to speak on behalf of an organization should identify that organization in their request to speak. Meetings will begin at the times specified and will continue until all those present who wish to participate have had an opportunity to do so. Should any speaker desire to provide further information for the record that cannot be presented within the designated time, such additional information may be submitted electronically or by letter by November 10, 2008. A transcript of the comments offered during the scoping meetings will be prepared and made available.

The public is encouraged to communicate information and comments on issues it believes Western and the Service should address in the Programmatic EIS. The agencies request information and comments on resources in the UGP Region that development of wind energy may impact. Comments may be in terms of broad areas or restricted to specific areas of concern. Individual respondents may request confidentiality. For written comments or comments received through the Web site, respondents may request to withhold names or street addresses, except for the city or town, from public view or from disclosure under the Freedom of Information Act. Such a request must be stated prominently at the beginning of the comment. We will honor requests to the extent allowed by law. All submissions from organizations or businesses, and from individuals identifying themselves as representatives or officials of organizations or businesses, will be available for public inspection in their entirety.

After gathering public comments on what issues should be addressed in the Programmatic EIS, Western and the Service will identify and provide rationale in the EIS on those issues addressed and those issues beyond the scope of the EIS. In addition to the major issues, Western and the Service will address a number of management questions and concerns in the Programmatic EIS. The public is encouraged to help identify these questions and concerns during the public scoping period. A scoping summary report will be available for public review approximately 45 days following closure of the scoping period. The report will be posted on the project Web site (http://plainswindeis.anl.gov), or may be requested from the contacts noted in the FOR FURTHER INFORMATION CONTACT section.

Background Information

The Western's UGP Region sells more than 12 billion kilowatt-hours of firm power per year, generated from eight dams and powerplants of the Pick-Sloan Missouri Basin Program-Eastern Division. This power is enough to serve more than 3 million households. The UGP Region delivers this hydropower through nearly 100 substations and across nearly 7,800 miles of Federal transmission lines in Iowa, Minnesota, Montana, Nebraska, North Dakota, and South Dakota, which are connected with other regional transmission systems and groups.

Western offers transmission capacity in excess of the capacity it requires for the delivery of long-term, firm capacity and energy to current contractual electrical service customers of the Federal government in accordance with its Tariff. The Tariff was developed in response to Federal Energy Regulatory Commission Orders implementing key provisions of the Energy Policy Act of 2005. Section 211 of the Federal Power Act requires that transmission service be provided upon request if transmission capacity is available. Under the Tariff, Western is required to provide firm and non-firm, point-to-point transmission service and network integration transmission service to applicants to the extent that Western has transmission capability available.

Western must respond to a wind developer's request for interconnection to the Federal transmission system. To each request, Western applies the terms and conditions of its Tariff, including its Large Generator Interconnection (LGI) and Small Generator Interconnection (SGI) procedures for providing nondiscriminatory transmission access. Interconnection requests to UGP Region's system require Federal action; therefore, Western has the need to respond to an applicant's request for interconnection to the Federal power system by approving or denying the request. In 2008, Western's UGP Region has received to date eight requests for interconnection for about 1,500 megawatts (MW) of wind generation.

If Western determines that existing transmission capacity is available for a proposed wind development, Western must ensure that existing transmission system reliability and service to existing customers is not degraded. The LGI and SGI procedures provide for transmission and system studies to ensure that capacity is available and system reliability and service to existing customers are not adversely affected. These studies also identify any system upgrades or additions necessary to accommodate a proposed wind development and ensure that they are included in the project's scope.

Wind generation looks promising to Western's customers, other utilities, and wind energy developers in the UGP Region as a solution to increasing energy needs. To date, Western's process for addressing wind-energy interconnection requests has been on an individual basis and in the order of preference defined by interconnection procedures in its Tariff. With the passage of the Energy Policy Act of 2005 and other policy initiatives, Western supports development of wind-energy resources in the UGP Region. In response to increasing wind-energy development, UGP Region needs to establish a more proactive program to support wind-energy resources in the UGP Region.

In the Service's Region 6, commercial wind energy development has grown from almost nothing in the early 1980s to over 11.5 gigawatts (GW) in 2006. Much of this growth has occurred in the past five years, and some predict the industry's installed generating capacity will continue to grow exponentially. Much of this potential development is occurring in areas having some of the largest intact tracts of native prairie and highest wetland densities, making it some of the most productive waterfowl habitat in North America. The scope and geographic extent of the Service's landscape level easement program in North Dakota, South Dakota, and eastern Montana make it difficult for wind companies to avoid impacting Service easements when developing wind-energy resources in the UGP Region.

Under the Service's grassland and wetlands easement program, the owners of land subject to grassland and wetland easements cannot engage in or allow any activity that would destroy vegetation. The intent of the program is to prevent conversion of grassland and wetlands and to protect these habitats at a landscape level while complementing existing agricultural practices and allow for other compatible uses where feasible. Cooperation with the agricultural community has resulted in the overwhelming success of this program, with over three million acres of grassland and wetlands protected to date. However, where wind-energy development is proposed for lands subject to the Service's easements, there must be a mechanism for reconciling these otherwise conflicting interests. It is essential that the Service consider the effects of the expansion of wind generation on the wildlife that uses these easement lands.

Draft EIS Schedule and Availability

Western and the Service anticipate the Programmatic EIS process will take about 22 months and will include the public scoping meetings; consultation and involvement with appropriate Federal, State, and local agencies, and tribal governments; public review and hearing(s) on the published Draft EIS; a published Final EIS; and publication of Records of Decision (ROD).

The public will be provided an opportunity to review the Draft EIS, and hearings on the published Draft EIS are expected to be conducted in the calendar year 2009. A notice of the location of these public hearings will be provided at a later date. A published final EIS, a waiting period, and publications of ROD are anticipated in calendar year 2010.

Dated: July 23, 2008.
Timothy J. Meeks,
Administrator, Western Area Power Administration.
Dated: September 2, 2008.
Stephen D. Guertin,
Regional Director, U.S. Fish and Wildlife Service.

[FR Doc. E8-21149 Filed 9-10-08; 8:45 am]

BILLING CODE 6450-01-P